DEPARTMENT OF COMMERCE

International Trade Administration

[A-423-808]

Stainless Steel Plate in Coils From Belgium: Notice of Initiation of Antidumping Duty Changed Circumstances Review

AGENCY: Import Administration, International Trade Administration, Department of Commerce.

SUMMARY: Pursuant to section 751(b) of the Tariff Act of 1930, as amended (“the Act”), and 19 CFR 351.216 and 351.221(c)(3), the Department of Commerce (the “Department”) is initiating a changed circumstances review of the antidumping duty order on stainless steel plate in coils (“SSPC”) from Belgium with respect to Aperam Stainless Belgium N.V. (“Aperam”).

DATES: Effective Date: July 29, 2011.

FOR FURTHER INFORMATION CONTACT: George McMahon or Stephanie Moore, AD/CVD Operations, Office 3, Import Administration, International Trade Administration, U.S. Department of Commerce, 14th Street & Constitution Avenue, NW., Washington, DC 20230; telephone: (202) 482-1167 and (202) 482-3692, respectively.

SUPPLEMENTARY INFORMATION:

Background

On May 21, 1999, the Department published in the Federal Register an antidumping duty order on stainless steel plate in coils from Belgium; this order was amended in 2003.¹ On June 28, 2011, the Department initiated an administrative review of Aperam Stainless Belgium N.V. (“Aperam”), covering the period of review (“POR”), May 1, 2010, through April 30, 2011. Aperam's request for review stated that Aperam was formerly known as ArcelorMittal Stainless Belgium N.V. (“AMSB”). See Initiation of Antidumping and Countervailing Duty Administrative Reviews and Request for Revocation in Part 76 FR 37781 (June 28, 2011).²

¹ See Antidumping Duty Orders; Certain Stainless Steel Plate in Coils From Belgium, Canada, Italy, the Republic of Korea, South Africa, and Taiwan, 64 FR 27756 (May 21, 1999); Notice of Amended Antidumping Duty Orders; Certain Stainless Steel Plate in Coils From Belgium, Canada, Italy, the Republic of Korea, South Africa, and Taiwan, 68 FR 11520 (March 11, 2003); Notice of Amended Antidumping Duty Orders; Certain Stainless Steel Plate in Coils From Belgium, Canada, Italy, the Republic of Korea, South Africa, and Taiwan, 68 FR 16117 (April 2, 2003); Notice of Correction to the Amended Antidumping Duty Orders; Certain Stainless Steel Plate in Coils From Belgium, Canada, Italy, the Republic of Korea, South Africa, and Taiwan, 68 FR 20114 (April 24, 2003) (“Antidumping Order”).

² On August 16, 2010, the Court of International Trade (“CIT”) issued an Order modifying a preliminary injunction in effect for entries of subject merchandise under the Antidumping Order. See Order Granting Plaintiff's Motion to Modify the Preliminary Injunction Order, ArcelorMittal Stainless Belgium N.V. v United States, No. 08-434 (CIT August 16, 2010). In this Order, the CIT modified its January 16, 2009, Order granting Plaintiff's Motion for Preliminary Injunction, and enjoined liquidation of any unliquidated entries of SSPC from Belgium which contain merchandise that (i) Is 4.75 mm or more in nominal thickness, but which has an actual thickness of less than 4.75 mm, and within the dimensional tolerances specified under ASTM standard A480/480M, (ii) was produced and exported by Ugine & ALZ Belgium N.V., any of its predecessors-in-interest, as determined by the Department, and/or any of its successors-in-interest, as determined by the Department, and (iii) is otherwise subject to the antidumping duty order and countervailing duty order on certain SSPC from Belgium. See 64 FR 27756 (May 21, 1999) and 64 FR 25288 (May 11, 1999), respectively. Because AMSB is the successor-in-interest to Ugine & ALZ Belgium N.V., the modified preliminary injunction may enjoin certain entries subject to this review.

With respect to AMSB, the Department determined in a prior administrative review covering the POR of May 1, 2007, to April 30, 2008, that AMSB was the successor-in-interest to Ugine & ALZ Belgium, after the merger of Arcelor S.A. with Mittal Steel, N.V.³ Aperam is the only respondent in the current administrative review.

³ See Memorandum from G. McMahon to J. Terpstra, titled “Successor-in-Interest Analysis for AMS Belgium,” dated June 1, 2009; see also Stainless Steel Plate in Coils from Belgium: Preliminary Results of Antidumping Duty Administrative Review, 74 FR 27097 (June 8, 2009).

On June 14, 2011, Aperam requested that the Department initiate and conduct an expedited changed circumstances review to determine that, for purposes of the antidumping law, Aperam is the successor-in-interest to AMSB. See June 14, 2011, letter from Aperam to the Department.

Scope of the Order

The product covered by this order is certain stainless steel plate in coils. Stainless steel is an alloy steel containing, by weight, 1.2 percent or less of carbon and 10.5 percent or more of chromium, with or without other elements. The subject plate products are flat-rolled products, 254 mm or over in width and 4.75 mm or more in thickness, in coils, and annealed or otherwise heat treated and pickled or otherwise descaled. The subject plate may also be further processed (e.g., cold-rolled, polished, etc.) provided that it maintains the specified dimensions of plate following such processing. Excluded from the scope of this order are the following: (1) Plate not in coils; (2) Plate that is not annealed or otherwise heat treated and pickled or otherwise descaled; (3) Sheet and strip; and (4) Flat bars.

The merchandise subject to this order is currently classifiable in the Harmonized Tariff Schedule of the United States (HTSUS) at subheadings: 7219.11.00.30, 7219.11.00.60, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60, and 7220.90.00.80. Although the HTSUS subheadings are provided for convenience and customs purposes, the written description of the merchandise subject to these orders is dispositive.

Initiation of Changed Circumstances Review

Pursuant to section 751(b)(1) of the Act and 19 CFR 351.216(d), the Department will conduct a changed circumstances review upon receipt of information concerning, or a request from an interested party for a review of, an antidumping duty order which shows changed circumstances sufficient to warrant a review of the order. In antidumping duty changed circumstances reviews involving a successor-in-interest determination, the Department typically examines several factors including, but not limited to: (1) Management; (2) production facilities; (3) supplier relationships; and (4) customer base. See Brass Sheet and Strip from Canada: Final Results of Antidumping Duty Administrative Review, 57 FR 20460, 20462 (May 13, 1992) and Certain Cut-to-Length Carbon Steel Plate from Romania: Initiation and Preliminary Results of Changed Circumstances Antidumping Duty Administrative Review, 70 FR 22847 (May 3, 2005) (Plate from Romania), unchanged in Notice of Final Results of Antidumping Duty Changed Circumstances Review: Certain Cut-to-Length Carbon Steel Plate from Romania 70 FR 35624 (June 21, 2005).

Aperam requested that the Department conduct an expedited changed circumstances review; however, the Department requires additional information before issuing preliminary results for this review. For example, Aperam provided statements regarding its material and service providers and its customer base, but did not include lists that would allow the Department to compare such information before and after the reported spin-off and name change. As a result, the Department intends to obtain such information prior to issuing preliminary results in this changed circumstances review.

Based on the information Aperam submitted in its June 14, 2011, letter, we find that we have received information which shows changed circumstances sufficient to warrant initiation of such a review in order to determine whether Aperam is the successor-in-interest to AMSB. See 19 CFR 351.216(d). Therefore, in accordance with the above-referenced statute and regulation, the Department is initiating a changed circumstances review.

We intend to issue the preliminary results of the changed circumstances review within 90 days from the issuance of the instant initiation notice. We intend to issue the final results of the changed circumstances review within 270 days from the date of initiation of this changed circumstance review, or within 45 days if all parties to the proceeding agree to the outcome of the review. See 19 CFR 351.216(e). During the course of this review, we will not change the cash deposit requirements for the subject merchandise. The cash deposit rate will be altered, if warranted, pursuant only to the final results of the changed circumstances review.

This notice of initiation is in accordance with section 751(b)(1) of the Act and 19 CFR 351.221(b)(1).

Dated: July 22, 2011.
Christian Marsh,
Deputy Assistant Secretary for Antidumping and Countervailing Duty Operations.

[FR Doc. 2011-19305 Filed 7-28-11; 8:45 am]

BILLING CODE 3510-DS-P